ENVIRONMENTAL PROTECTION AGENCY

[FRL-8034-2]

Science Advisory Board Staff Office; Request for Nominations for Science Advisory Board Panel(s) on Hypoxia in the Gulf of Mexico

AGENCY: Environmental Protection Agency (EPA).

ACTION: Notice.

SUMMARY: The U.S. Environmental Protection Agency (EPA or Agency) Science Advisory Board (SAB) Staff Office is soliciting nominations for nationally recognized scientists to serve on an SAB expert Panel or Panels to conduct an evaluation of the complex scientific and technical issues that affect the causes, location, magnitude and duration of the hypoxic zone in the Northern Gulf of Mexico, as well as the priority and feasibility of management and control options in the Mississippi River Basin and Gulf to reduce it.

DATES: Nominations should be submitted by March 10, 2006 per the instructions below.

FOR FURTHER INFORMATION CONTACT: For information regarding this Request for Nominations please contact Dr. Holly Stallworth, Designated Federal Officer (DFO), EPA Science Advisory Board Staff, at stallworth.holly@epa.gov or (202) 343-9867. General information concerning the SAB can be found on the EPA Web site at: http://www.epa.gov/sab. For information on EPA's activities related to hypoxia in the Gulf of Mexico, please contact Mr. John Wilson in the Office of Wetlands, Oceans and Watersheds at wilson.john@epa.gov or (202) 566-1158 or Mr. Daniel Kaiser in the Office of Wetlands, Oceans and Watersheds at kaiser.daniel@epa.gov or (202) 566-0686.

SUPPLEMENTARY INFORMATION:

Background: A large area of depleted oxygen occurs on the Louisiana continental shelf in the Gulf of Mexico on an annual basis. EPA is one of the Federal agencies with responsibilities over activities in the Mississippi River Basin and the Gulf of Mexico and participates with other Federal agencies, state and tribes in the Mississippi River/Gulf of Mexico Watershed Nutrient Task Force. In 2001, the Mississippi River/Gulf of Mexico Watershed Nutrient Task Force released the Action Plan for Reducing, Mitigating and Controlling Hypoxia in the Northern Gulf of Mexico (hereinafter called the Action Plan, available at: http://www.epa.gov/msbasin/taskforce/actionplan.htm). This Action Plan was informed by the underlying science described in An Integrated Assessment of Hypoxia in the Northern Gulf of Mexico (hereinafter called the Integrated Assessment, available at http://www.nos.noaa.gov/products/hypox_finalfront.pdf) developed by the National Science and Technology Council. Six technical reports available at http://www.nos.noaa.gov/products/pubs_hypox.html provided the scientific foundation for the Integrated Assessment.

At the request of EPA's Office of Water, the Science Advisory Board (SAB) is forming a Panel(s) to evaluate the state-of-the-science regarding the Gulf of Mexico hypoxic zone. The EPA Science Advisory Board (SAB) was established by 42 U.S.C. 4365 to provide independent scientific and technical advice, consultation, and recommendations to the EPA Administrator on the technical basis for Agency positions and regulations. This SAB Panel(s) will comply with the provisions of the Federal Advisory Committee Act (FACA) and all appropriate SAB procedures. Upon completion, the Panel's report will be submitted to the SAB for final approval for transmittal to the EPA Administrator.

The SAB Panel(s) will review all available and relevant information, including the Action Plan, the Integrated Assessment, and any new scientific literature that has appeared since they were released. The Panel(s) will address a variety of complex scientific and technical issues that affect the causes, location, magnitude and duration of the hypoxic zone, as well as the priority and feasibility of management and control options to reduce it. Such issues may include the biological, chemical, and physical characteristics of the Mississippi River Basin and the Gulf of Mexico; the sources, types, amounts, fate, transport, and dynamics of nutrients [nitrogen (N), phosphorus (P), carbon (C), silicon (Si)] and oxygen in freshwater, estuarine, and marine systems; factors affecting the formation and persistence of hypoxia in estuarine and coastal waters; and decision science and the economic feasibility and efficacy of management options to reduce the hypoxic zone.

Solicitation of Expertise. The SAB Staff Office requests nominations of nationally recognized experts in the natural and life sciences, decision sciences, economics, engineering, and natural resource or environmental management. The SAB is particularly interested in nominees who have extensive research or management experience with the description, quantification, prediction, mitigation and control of nitrogen, phosphorus, carbon, silicon and oxygen in the Mississippi River Basin, Gulf of Mexico, or other riverine, wetland estuarine, and marine systems. Expertise is sought in one or more of the following areas.

(a) Chemistry—with emphasis on analyses, sources, fate, transport, dynamics and interactions of nitrogen, phosphorus, carbon, silicon, and oxygen in aquatic, estuarine, wetland, and marine systems;

(b) Engineering—with emphasis on:

(1) Agricultural engineering (implementation of management practices for agricultural runoff, fertilization, and alternative cropping;

(2) Environmental engineering (point and non-point mitigation and control practices for nitrogen, phosphorus, and carbon from industrial, municipal, septic, urban stormwater, and agricultural sources); and/or

(3) Ecological engineering (constructed wetlands);

(c) Biological Oceanography and Coastal, Estuarine and Marine Ecology—with emphasis on:

(1) Nutrient sources and dynamics (N, P, C, Si) associated with primary secondary and tertiary production, microbial ecology, and the development and control of algal blooms in wetlands, estuaries, near coastal, and marine environments;

(2) Studies involving nutrient (N, P, C, Si) removal, transformation, and export;

(3) Energy and essential element flux through ecosystems, especially marine microbial food webs;

(4) Hypoxia and related oxygen depletion phenomena;

(5) Land use change, watershed dynamics, land-sea coupling, global ecology;

(6) Organic and inorganic geochemistry, biogeochemical dynamics of aquatic food chains; biochemical markers of colloidal and particulate organic carbon; and/or

(7) Bio-optics; fine-scale pigment distributions; microbial dynamics.

(d) Limnology, Wetlands and Riverine Ecology—with emphasis on:

(1) Nutrient sources and dynamics (N, P, C, Si) associated with primary production, eutrophication, microbial ecology, and algal blooms in the Mississippi River Basin, or other freshwater streams, rivers, reservoirs, lakes and wetlands; and/or

(2) Water quality studies involving nutrient (N, P, C, Si) removal, transformation, and downstream export;

(e) Groundwater and Soil Hydrology—with emphasis on:

(1) Nutrient dynamics (N, P, C, Si) and wetlands as nutrient sinks and sources in the Mississippi River Delta;

(2) Estuarine physical oceanography; and/or

(3) Septic systems as sources of nutrients and carbon;

(f) Chemical, Physical, And Coastal Oceanography—with emphasis on:

(1) Freshwater discharge and stratification;

(2) Estuarine and coastal shelf transport, mixing and circulation;

(3) Global and regional nutrient cycles and their interactions;

(4) Biogeochemical cycling in estuaries, lagoons, wetlands;

(5) Dissolved oxygen, carbon, nitrogen and phosphorus dynamics, especially in hypoxic zones;

(6) Energy and essential element flux through ecosystems, especially marine microbial food webs; and/or

(7) Potential for altered salinities at the estuary/shelf boundary from proposed Mississippi River redistribution and its importance for stratification on the shelf;

(g) Coastal Paleoecology—with emphasis on interpretation of benthic foraminifera as indicators of historical ecological conditions;

(h) Economics—with emphasis on:

(1) Agricultural economics of row crops, animal feeding operations and their management;

(2) Natural resource, ecological or environmental economics; and/or

(3) Fisheries economics;

(i) Modelling—with emphasis on:

(1) Hydrologic models;

(2) Riverine, estuarine, and marine water quality models;

(3) Nutrient models (N, P, C, Si); and/or

(4) Systems ecology models;

(j) Statistics—with emphasis on designing, conducting and interpreting complex, multivariate, predictive studies over large spatial and temporal scales; and

(k) Decision Sciences—with emphasis on collaborative decision-making for natural resource, environmental, or watershed planning and management in the Mississippi River Basin, the Gulf of Mexico or other aquatic, estuarine, wetland, and marine systems.

Process and Deadline for Submitting Nominations: Any interested person or organization may nominate qualified individuals to serve on the SAB Panel(s). Nominations should be submitted in electronic format through the SAB Web site at the following URL: http://www.epa.gov/sab; or directly via the Form for Nominating Individuals to Panels of the EPA Science Advisory Board link found at URL: http://www.epa.gov/sab/panels/paneltopics.html. To be considered, nominations must include all of the information required on the associated forms. Anyone who is unable to submit nominations using this form, and who has any questions concerning any aspects of the nomination process may contact the DFO, as indicated above in this notice. Nominations should be submitted in time to arrive no later than March 10, 2006.

The EPA SAB Staff Office will acknowledge receipt of the nomination. From the nominees identified by respondents to this notice (termed the “Widecast”), the SAB Staff Office will develop a smaller subset (known as the “Short List”) for more detailed consideration. Criteria used by the SAB Staff in developing this Short List are given at the end of the following paragraph. The Short List will be posted for public comment on the SAB Web site at: http://www.epa.gov/sab. The Short List will include each nominee's name and a short biographical description of expertise and professional experiences. During this comment period, the public may provide relevant information on nominees that the SAB Staff Office should consider in evaluating candidates for the Panel.

For the EPA SAB Staff Office, a balanced subcommittee or panel is characterized by inclusion of candidates who possess the necessary domains of knowledge, the relevant scientific perspectives (which, among other factors, can be influenced by work history and affiliation), and the collective breadth of experience to adequately address the charge. Public responses to the Short List candidates will be considered in the selection of the Panel, along with information provided by candidates and information independently-gathered by the SAB Staff Office on the background of each candidate. Specific criteria to be used in evaluating an individual nominee include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise and viewpoints.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/sge_course/pdf_sge/epaform3110_48.pdf. The process by which the EPA SAB Office forms panels is described in the following document: Overview of the Panel Formation Process at the Environmental Protection Agency Science Advisory Board (EPA-SAB-EC-02-010), which is posted on the SAB Web site at: http://www.epa.gov/sab/pdf/ec02010.pdf.

Dated: February 13, 2006.
Vanessa Vu,
Director, EPA Science Advisory Board Staff Office.

[FR Doc. E6-2323 Filed 2-16-06; 8:45 am]

BILLING CODE 6560-50-P